DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2018 Senior Executive Service (SES) Performance Review Boards.

DATES: This notice is applicable September 1, 2018.

FOR FURTHER INFORMATION CONTACT: Willie Beard, IRS, 1111 Constitution Avenue NW, Room 3518, Washington, DC 20224, (202) 317-3828.

SUPPLEMENTARY INFORMATION: Pursuant to 5 U.S.C. 4314(c)(4), this notice announces the appointment of members to the IRS's SES Performance Review Boards. The names and titles of the executives serving on the boards are as follows:

Kirsten B. Wielobob, Deputy Commissioner for Services and Enforcement

Jeffrey J. Tribiano, Deputy Commissioner for Operations Support

Justin L. Abold-LaBreche, Deputy Director Accounts Management, Wage & Investment

David P. Alito, Deputy Division Commissioner, Wage & Investment

William H. Ankrum, Deputy Associate Chief Information Officer for User and Network Services, Information Technology

Lisa J. Beard-Niemann, Director, Government Entities/Shared Services, Tax Exempt and Government Entities

Robert J. Bedoya, Director, Submission Processing, Information Technology

Michael C. Beebe, Director, Return Integrity and Compliance Services, Wage & Investment

Thomas A. Brandt, Chief Risk Officer

Linda J. Brown, Director Submission Processing, Wage & Investment

Carol A. Campbell, Director, Return Preparer Office

John V. Cardone, Director, Withholding and International Individual Compliance, Large Business & International

Robert Choi, Director, Employee Plans, Tax Exempt & Government Entities

Elita I. Christiansen, Chief Diversity Officer

James P. Clifford, Director, Customer Account Services, Wage & Investment

Katherine M. Coffman, IRS Human Capital Officer

Amalia C. Colbert, Chief of Staff

Kenneth C. Corbin, Commissioner, Wage & Investment

Robert S. Cox, Deputy Associate Chief Information Officer for Cybersecurity, Information Technology Division

Brenda A. Dial, Director, Examination, Small Business/Self-Employed

Pamela Drenthe, Director, Examination Planning and Performance Analysis, Small Business/Self-Employed

Alain Dubois, Deputy Chief Financial Officer

John C. Duder, Project Director, Deputy Commissioner for Services and Enforcement

Elizabeth A. Dugger, Assistant Deputy Commissioner for Operations Support

Kimberly A. Edwards, Project Director, Large Business & International

Nikole C. Flax, Deputy Commissioner, Large Business & International

John D. Fort, Chief Criminal Investigation

Silvana G. Garza, Chief Information Officer, Information Technology

Ursula S. Gillis, Chief Financial Officer

Linda K. Gilpin, Associate Chief Information Officer, Enterprise IT Program Management Office, Information Technology

Dietra D. Grant, Director, Customer Assistance, Relationships and Education, Wage & Investment

Darren J. Guillot, Director, Collection—Field, Small Business/Self-Employed

Valerie A. Gunter, Director, Media & Publications, Wage & Investment

Daniel S. Hamilton, Associate Chief Information Officer, Enterprise Services, Information Technology

Donna C. Hansberry, Chief Appeals

Barbara L. Harris, Director, Northeastern Compliance Practice Area, Large Business & International

Gearl D. Harris, Assistant Deputy Commissioner International, Large Business & International

Nancy E. Hauth, Director, Examination Field, Small Business/Self-Employed

Mary R. Hernandez, Associate Chief Information Officer, Enterprise Operations, Information Technology

Benjamin D. Herndon, Chief Research, Applied, Analytics & Statistics

John E. Hinding, Director, Cross Border Activities Practice Area, Large Business & International

David W. Horton, Deputy Commissioner, Tax Exempt & Government Entities

Cecil T. Hua, Director, Infrastructure Services, Information Technology

Eric C. Hylton, Deputy Chief Criminal Investigation

Scott E. Irick, Director, Examination Headquarters, Small Business/Self-Employed

Sharon C. James, Associate Chief Information Officer, Cybersecurity, Information Technology

Tracy A. Keeter, Director, Enterprise Technology Implementation, Information Technology

Andrew J. Keyso Jr., Deputy Chief Appeals

Edward T. Killen, Chief Privacy Officer, Privacy, Governmental Liaison and Disclosure

Ronald J. Leidner Jr., Director, Data Delivery Services, Information Technology

Terry Lemons, Chief Communications & Liaison

Sunita B. Lough, Commissioner, Tax Exempt & Government Entities

William H. Maglin II, Associate Chief Financial Officer for Financial Management, Chief Financial Office

Paul J. Mamo, Director, Collection, Small Business/Self-Employed

Lee D. Martin, Director, Whistleblower Office

Erick Martinez, Director Field Operations—Northern Area, Criminal Investigation

Ivy S. McChesney, Director, Examination—Ogden, Small Business/Self-Employed

Kevin Q. McIver, Deputy IRS Human Capital Officer

Karen A. Michaels, Director, Accounts Management, Wage & Investment

Kevin M. Morehead, Director, Operations Support, Wage & Investment

Mary E. Murphy, Commissioner, Small Business/Self-Employed

Frank A. Nolden, Director, Stakeholder, Partnerships, Education & Communication, Wage & Investment

Douglas W. O'Donnell, Commissioner, Large Business & International

Nina E. Olson, National Taxpayer Advocate

Kaschit D. Pandya, Deputy Associate Chief Information Officer, Enterprise Operations, Information Technology

Holly O. Paz, Director, Pass Through Entities, Large Business & International

Richard A. Peterson, Senior Technical Advisor, Deputy Commissioner for Services and Enforcement

Robert A. Ragano, Deputy, Associate Chief Information Officer for Applications Development, Information Technology

Tamera L. Ripperda, Deputy Commissioner, Small Business/Self-Employed

Bridget T. Roberts, Deputy National Taxpayer Advocate

Richard L. Rodriguez, Chief, Facilities Management and Security Services

Rene S. Schwartzman, Director Identity Assurance, Privacy, Governmental Liaison and Disclosure

Theodore D. Setzer, Assistant Deputy Commissioner International, Large Business & International

Verline A. Shepherd, Associate Chief Information Officer for User and Network Services, Information Technology

Nancy A. Sieger, Associate Chief Information Officer for Applications Development, Information Technology

Susan Simon, Director, Field Assistance, Wage & Investment

Harrison Smith, Deputy Chief Procurement Officer

Tommy A. Smith, Associate Chief Information Officer, Strategy and Planning, Information Technology

Marla L. Somerville, Deputy Chief Information Officer for Strategy and Modernization, Information Technology

Beverly E. Thomas, Director, Collection—Campus, Small Business/Self-Employed

Kathryn D. Vaughan, Director, Operations Support, Small Business/Self-Employed

Margaret Von Lienen, Director, Exempt Organizations, Tax Exempt & Government Entities

Keith A. Walker, Director, Program and Business Solutions, Large Business & International

Shanna R. Webbers, Chief Procurement Officer

Stephen A. Whitlock, Director, Office of Professional Responsibility

Lavena B. Williams, Director, Eastern Compliance, Large Business & International

This document does not meet the Treasury's criteria for significant regulations.

Jeffrey J. Tribiano,
Deputy Commissioner for Operations Support, Internal Revenue Service.

[FR Doc. 2018-19618 Filed 9-11-18; 8:45 am]

BILLING CODE 4830-01-P